DEPARTMENT OF JUSTICE

Antitrust Division

Notice Pursuant to the National Cooperative Research and Production Act of 1993—National Armaments Consortium

Notice is hereby given that, on April 13, 2017, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, Stark Aerospace, Inc., Columbus, MS; American Defense International, Inc., Washington, DC; Advance Concepts Engineering, LLC, Howell, NJ; Marotta Controls, Inc., Montville, NJ; Ideal Innovations Incorporated, Arlington, VA; Streamline Circuits Corp., Santa Clara, CA; Kongsberg Protech Systems USA Corporation, Johnstown, PA; Arnold Magnetic Technologies Corp., Rochester, NY; Satelles, Inc., Herndon, VA; Colorado School of Mines, Golden, CO; Modern Technology Solutions, Inc., Alexandria, VA; Columbia Gorge Research, LLC, Fairview, OR; Alakai Defense Systems, Inc., Largo, FL; Opto Knowledge Systems, Inc. (OKSI), Torrance, CA; EWI, Columbus, OH; Acquisition Systems Associates, Inc., Great Falls, VA; Navatek, Ltd., South Kingstown, RI; El Dorado Engineering, Inc., West Jordan, UT; Oceaneering International, Inc., Hanover, MD; Adaptive Methods Inc., Centreville, VA; ADA Technologies, Inc., Littleton, CO; American Technical Coatings, Inc. (DBA ATC Materials, Inc.), Westlake, OH; McLaughlin Research Corporation, New London, CT; Spatial Integrated Systems, Inc., Virginia Beach, VA; Advanced Acoustic Concepts, LLC, Hauppauge, NY; ENSCO, Inc., Falls Church, VA; Arizona State University, Tempe, AZ; American Lightweight Materials and Manufacturing Innovation Institute (ALMMII), Detroit, MI; HRL Laboratories, LLC, Malibu, CA; Kearfott Corporation, Little Falls, NJ; SkyBridge Tactical, Tampa, FL; MIKEL, Inc., Fall River, MA; Teledyne Scientific & Imaging, LLC, Thousand Oaks, CA; Honeybee Robotics, Ltd., Brooklyn, NY; Metadyne Inc. (dba Towanda Metadyne Inc), Towanda, PA; Barber-Nichols Inc., Arvada, CO; Fraser Optics LLC, Feasterville-Trevose, PA; Advanced Technology and Research Corporation, Columbia, MD; Sonalysts, Inc., Waterford, CT; The University of Southern Mississippi, Hattiesburg, MI; nanoMetallix LLC, Saint Louis, MO; Houston Mechatronics, Inc., Webster, TX; Davis Defense Group, Inc., Stafford, VA; Sheltered Wings, Inc. dba Vortex Optics, Middleton, WI; Curtiss-Wright Electro-Mechanical Corporation, Cheswick, PA; Hodges Transportation Inc., dba Nevada Automotive Test Center, Silver Spring, NV; CRM Solutions Inc., Huntsville, AL; Thompson Gray Inc., Huntsville, AL; Oshkosh Defense LLC, Oshkosh, WI; Riverside Research Institute, New York, NY; EOS Defense Systems, Inc., Tucson, AZ; Invariant Corporation, Huntsville, AL; Choctaw Defense Manufacturing LLC, McAlester, OK; and TS2, LLC, Whiteford, MD, have been added as parties to this venture.

Also, CIRTEMO, LLC, Cayce, SC; Hydrosoft International, Livermore, CA; and Doolittle Institute, Inc., Fort Walton Beach, FL, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on February 3, 2017. A notice was published in the Federal Register pursuant to Section 6(b) of the Act on March 6, 2017 (82 FR 12638).

Patricia A. Brink,
Director of Civil Enforcement, Antitrust Division.

[FR Doc. 2017-09617 Filed 5-11-17; 8:45 am]

BILLING CODE P